DEPARTMENT OF ENERGY

Federal Energy Regulatory Commission

Combined Notice of Filings

Take notice that the Commission has received the following Natural Gas Pipeline Rate and Refund Report filings:

Docket Numbers: RP21-630-000.

Applicants: Gulf South Pipeline Company, LLC.

Description: Compliance filing OFO Penalty Waiver Request.

Filed Date: 3/19/21.

Accession Number: 20210319-5031.

Comments Due: 5 p.m. ET 3/31/21.

Docket Numbers: RP21-631-000.

Applicants: Panhandle Eastern Pipe Line Company, LP.

Description: Compliance filing Flow Through of Cash-Out Revenues filed on 3-19-21.

Filed Date: 3/19/21.

Accession Number: 20210319-5039.

Comments Due: 5 p.m. ET 3/31/21.

Docket Numbers: RP21-632-000.

Applicants: Panhandle Eastern Pipe Line Company, LP.

Description: Compliance filing Flow Through of Penalty Revenues Report filed on 3-19-21.

Filed Date: 3/19/21.

Accession Number: 20210319-5040.

Comments Due: 5 p.m. ET 3/31/21.

Docket Numbers: RP21-633-000.

Applicants: Cheyenne Connector, LLC.

Description: Compliance filing CC 2021-03-19 Annual L&U Report.

Filed Date: 3/19/21.

Accession Number: 20210319-5044.

Comments Due: 5 p.m. ET 3/31/21.

Docket Numbers: RP21-634-000.

Applicants: Trailblazer Pipeline Company LLC.

Description: § 4(d) Rate Filing: TPC 2021-03-19 Fuel and L&U Reimbursement and Power Cost Tracker to be effective 5/1/2021.

Filed Date: 3/19/21.

Accession Number: 20210319-5047.

Comments Due: 5 p.m. ET 3/31/21.

Docket Numbers: RP21-635-000.

Applicants: Natural Gas Pipeline Company of America.

Description: § 4(d) Rate Filing: Negotiated Rate Agreement Filing—Freepoint Commodities LLC to be effective 4/1/2021.

Filed Date: 3/19/21.

Accession Number: 20210319-5133.

Comments Due: 5 p.m. ET 3/31/21.

Docket Numbers: RP21-636-000.

Applicants: Natural Gas Pipeline Company of America.

Description: § 4(d) Rate Filing: Negotiated Rate Agreements Filing—Kiowa Power Partners to be effective 4/1/2021.

Filed Date: 3/19/21.

Accession Number: 20210319-5136.

Comments Due: 5 p.m. ET 3/31/21.

Docket Numbers: RP21-637-000.

Applicants: Natural Gas Pipeline Company of America.

Description: § 4(d) Rate Filing: Negotiated Rate Agreements Filing—Macquarie Energy LLC to be effective 4/1/2021.

Filed Date: 3/19/21.

Accession Number: 20210319-5137.

Comments Due: 5 p.m. ET 3/31/21.

Docket Numbers: RP21-638-000.

Applicants: Natural Gas Pipeline Company of America.

Description: § 4(d) Rate Filing: Negotiated Rate Agreement Filing—Mercuria Energy America to be effective 4/1/2021.

Filed Date: 3/19/21.

Accession Number: 20210319-5140.

Comments Due: 5 p.m. ET 3/31/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 22, 2021.
Nathaniel J. Davis, Sr.,
Deputy Secretary.

[FR Doc. 2021-06362 Filed 3-26-21; 8:45 am]

BILLING CODE 6717-01-P